DEPARTMENT OF HEALTH AND HUMAN SERVICES

Health Care Financing Administration

[Document Identifier: HCFA-10015]

Agency Information Collection Activities: Proposed Collection; Comment Request

AGENCY: Health Care Financing Administration, HHS.

In compliance with the requirement of section 3506(c)(2)(A) of the Paperwork Reduction Act of 1995, the Health Care Financing Administration (HCFA), Department of Health and Human Services, is publishing the following summary of proposed collections for public comment. Interested persons are invited to send comments regarding this burden estimate or any other aspect of this collection of information, including any of the following subjects: (1) The necessity and utility of the proposed information collection for the proper performance of the agency's functions; (2) the accuracy of the estimated burden; (3) ways to enhance the quality, utility, and clarity of the information to be collected; and (4) the use of automated collection techniques or other forms of information technology to minimize the information collection burden.

Type of Information Collection Request: New Collection;

Title of Information Collection: Evaluation of the Qualified Medicare Beneficiary (QMB) and Specified Low-Income Medicare Beneficiary (SLMB) Programs—Beneficiary Survey;

Form No.: HCFA-10015 (OMB #0938-NEW);

Use: Medicare beneficiaries eligible for the Qualified Medicare Beneficiary (QMB) and Specified Low-Income Medicare Beneficiary (SLMB) Programs will be surveyed. Numerous studies have shown that large numbers of potentially eligible QMB's and SLMB's do not participate in these programs. To further its goals under GPRA, the Health Care Financing Administration (HCFA) needs information on the effects of the QMB and SLMB programs. This project will help HCFA to develop a better understanding of the reasons for the low participation rates among the potential eligibles for both programs. Also, it will provide HCFA with information on the awareness of the QMB and SLMB programs; the paths and barriers to QMB and SLMB enrollment and the benefits of the QMB and SLMB coverage;

Frequency: Other: One-Time;

Affected Public: Individuals or Households;

Number of Respondents: 1,500;

Total Annual Responses: 1,500;

Total Annual Hours: 500.

To obtain copies of the supporting statement and any related forms for the proposed paperwork collections referenced above, access HCFA's Web Site address at http://www.hcfa.gov/regs/prdact95.htm, or E-mail your request, including your address, phone number, OMB number, and HCFA document identifier, to Paperwork@hcfa.gov, or call the Reports Clearance Office on (410) 786-1326. Written comments and recommendations for the proposed information collections must be mailed within 60 days of this notice directly to the HCFA Paperwork Clearance Officer designated at the following address: HCFA, Office of Information Services, Security and Standards Group, Division of HCFA Enterprise Standards, Attention: Dawn Willinghan (HCFA-10015), Room N2-14-26, 7500 Security Boulevard, Baltimore, Maryland 21244-1850.

July 13, 2000.
John P. Burke III,
HCFA Reports Clearance Officer, HCFA Office of Information Services, Security and Standards Group, Division of HCFA Enterprise Standards.

[FR Doc. 00-19308 Filed 8-3-00; 8:45 am]

BILLING CODE 4120-03-P